DEPARTMENT OF THE INTERIOR

Bureau of Reclamation

[RR02015200, 25XR0680A1, RX.02148941.332WT00]

Notice of Intent To Prepare a Draft Environmental Impact Statement/Environmental Impact Report and Hold Public Scoping Meetings for North-to-South Water Transfers

AGENCY: Bureau of Reclamation, Interior.

ACTION: Notice of intent; request for comments.

SUMMARY: Pursuant to the National Environmental Policy Act (NEPA), the Department of the Interior, Bureau of Reclamation (Reclamation) will prepare a Draft Environmental Impact Statement (EIS) to evaluate a range of alternatives for potential one-year water transfer activities subject to proposal, review, and approval on an annual basis (the “Proposed Action”). Pursuant to the California Environmental Quality Act (CEQA), San Luis & Delta-Mendota Water Authority (SLDMWA) will prepare a Draft Environmental Impact Report (EIR) on the same range of potential north-to-south water transfer activities (the “Project”) concurrent with the EIS preparation. A joint EIS/EIR will be prepared to examine the effects of water transfers between willing buyers and sellers when circumstances allow. To afford an informational opportunity for comprehensive environmental review otherwise unavailable to the public, Reclamation's responsibilities are defined under Federal law and it is serving as the Lead Agency for the “Proposed Action” under NEPA and SLDMWA is the Lead Agency under CEQA for the “Project.” Reclamation is requesting comments on alternatives and effects, as well as on relevant information, studies, or analyses with respect to the proposed action.

DATES: Submit written comments on the scope of the EIS/EIR on or before October 3, 2025.

Three public scoping meetings will be held by Reclamation and SLDMWA to inform interested parties about the proposed project alternatives and to solicit comments on the scope and content of the EIS/EIR. The meetings will be held both virtually and in-person. The dates and locations of the meetings will be announced at least 15 days in advance through the local media, newspapers, and the project website listed in the ADDRESSES section of this notice.

ADDRESSES: Send written comments on the proposed content and scope of the EIS/EIR to Nicole Johnson, Bureau of Reclamation, California-Great Basin Office, 2800 Cottage Way, Sacramento, CA 95825; by email at njohnson@usbr.gov; or at the public scoping meetings using the link from the website listed below in this section. Oral comments received during the scoping meetings will be recorded. If you do not wish to be recorded, you may submit written comments by mail or email to the addresses listed above. All comments received during the public comment period will be considered and addressed in the EIS/EIR, as appropriate.

The dates and locations of the three public scoping meetings, along with links to attend virtually, will be posted to the project website at (https://www.usbr.gov/mp/north-to-south-water-transfers-program.html).

FOR FURTHER INFORMATION CONTACT: Nicole Johnson, Bureau of Reclamation, California-Great Basin Office, 2800 Cottage Way, Sacramento, CA 95825; email njohnson@usbr.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Project Background

Hydrologic conditions, climatic variability, and regulatory requirements that govern the operation of water projects commonly affect water supply availability in California. This variability can strain water availability in areas that are dependent on the delivery of Central Valley Project (CVP) supplies to meet most, if not all, of the water demand. Historically, water entities have implemented one-year water transfers to supplement decreased water supplies and meet existing demand. These transfers have become a common tool in water resource planning. Reclamation and SLDMWA jointly conduct a comprehensive environmental analysis of a range of alternatives for potential one-year transfer activities over a period of years, to facilitate responsible transfers when circumstances allow.

A water transfer involves an agreement between a willing seller and a willing buyer, and available infrastructure capacity to convey water between the two parties. To make water available for transfer, the willing seller must take an action to reduce the consumptive use of water (such as idling cropland or pumping groundwater in lieu of using surface water) or releasing additional water from reservoir storage. This water would be conveyed to the buyers' service area for beneficial use. The EIS/EIR will evaluate potential environmental impacts of a large number of transfers and will conservatively assume that the entire range of transfer methods included in each alternative would occur each year over a defined timeframe. Actual water transfers occur far less frequently and in much smaller volumes. Water transfers would only be used to help meet existing demands and would not serve any new demands in the buyers' service areas. The range of alternatives for potential one-year water transfer activities to be evaluated in the EIS/EIR would not directly or indirectly affect growth beyond what is already planned.

Each potential transfer must be proposed, reviewed, and approved on an annual basis. In all instances, the potential transfer activities to be studied in the EIS/EIR, if and when they are proposed, are subject to individual review and approval on an annual basis based on real-time assessment of hydrologic conditions, regulatory requirements, and other operation limitations.

Purpose and Need for the Proposed Action

Reclamation's primary purpose in reviewing a range of alternatives for potential one-year water transfer activities is to facilitate and approve the voluntary one-year transfers of water from willing sellers, located primarily upstream of the Sacramento-San Joaquin Delta (Delta), to willing buyers, located primarily south of the Delta, and in the San Francisco Bay Area, in accordance with law, policy, rules, regulations, and contracts then in effect. The transferred water is needed by water users that are at risk of experiencing water shortages and who require these supplemental water supplies to meet anticipated demands.

Project Area (Area of Analysis)

The project area includes the potential Seller Service Area, primarily upstream of the Delta and the east side of the San Joaquin River, and the Buyer Service Area, primarily south of the Delta and in the San Francisco Bay Area. Sellers include water rights holders on the Sacramento and San Joaquin rivers or their tributaries, including the Feather, Yuba, American, Stanislaus, and Merced rivers. Most transfers would need to move through the Delta to be delivered to buyers. Potential buyers are located south and west of the Delta, and include the Contra Costa Water District, the East Bay Municipal Utility District, and eight member agencies of SLDMWA.

Alternative Development

NEPA and CEQA require an EIS and EIR, respectively, to identify a reasonable range of alternatives and provide guidance on the identification and screening of such alternatives. Reclamation, in collaboration with SLDMWA, reviewed the purpose and need/project objectives statement and previous studies in their initial effort to develop conceptual alternatives. This process identified an initial list of more than twenty-two measures that could, in part, contribute to the purpose and need/project objectives. Reclamation and SLDMWA then developed and applied a set of screening considerations to determine which measures should move forward for further analysis and be considered as action alternatives. These preliminary alternatives will be reevaluated after the public scoping period to consider any additional measures or alternatives recommended through the public scoping process.

Preliminary Alternatives To Be Considered

The EIS/EIR will consider a range of reasonable alternatives, consistent with 43 CFR 46.415(b) and 43 CFR 46.420(b) and (c), including a No Action Alternative. The preliminary range of potential project alternatives identified by Reclamation, in collaboration with SLDMWA, for analysis in the EIS/EIR are described below.

Full Range of Transfers Alternative

This alternative combines all potential transfer methods that met the purpose and need and were carried forward through the screening process. Transfer methods included in the Full Range of Transfers Alternative are:

• Conservation: Conservation transfers include actions to reduce the diversion of surface water by the transferring entity by reducing irrecoverable water losses. The amount of reduction in irrecoverable losses determines the amount of transferrable water.

• Cropland idling: Cropland idling makes water available for transfer that would have been consumptively used by the crop. Water would be made available on the same pattern throughout the growing season as it would have otherwise been consumed had a crop been planted. The irrigation season generally lasts from April or May through September for most crops in the Sacramento Valley.

• Groundwater substitution: Transfer of water made available through groundwater substitution actions occur when sellers choose to pump groundwater in lieu of diverting surface water supplies, thereby making the surface water available for transfer. Water could be made available for transfer by the agricultural users during the irrigation season of April through September.

• Crop shifting: For crop shifting transfers, water is made available when farmers shift from growing a higher water use crop to a lower water use crop. The difference in the accepted evapotranspiration of applied water values between the two crops would be the amount of water that can be transferred.

• Reservoir release: Buyers could acquire water by purchasing surface water stored in reservoirs owned by non-Project entities (not part of the CVP or State Water Project [SWP]). To ensure that purchasing this water would not affect downstream users, transferred water would be limited to that which would not have otherwise been released downstream absent the transfer.

Transfers would only be implemented through agreements between willing sellers and buyers. The upper limit for transfers in any one year would be consistent with the transfer volumes in the current Biological Opinion for the Coordinated Long-term Operation of the Central Valley Project and State Water Project. Through-Delta transfers would be limited to the transfer window provided by Reclamation and DWR, typically July 1 through November 30, unless pumping capacity is restricted by Reclamation and DWR. This alternative proposes a variety of methods that buyers and sellers can select from to implement in a given transfer year. Some methods in this alternative may not be implemented if there are no willing sellers or buyers interested in that particular method. Reclamation's role would be to approve and facilitate transfers that comply with Federal and State law and would not include negotiating among buyers and sellers. SLDMWA, on behalf of its member agencies, and other interested buyers would negotiate one-year transfer agreements with willing sellers, including agreeing upon methods of making water available for transfer and quantities to be made available.

No Cropland Idling/Shifting Transfers Alternative

This alternative would consider a subset of the methods that met the purpose and need and were carried forward through the screening process. Methods in the No Cropland Idling/Shifting Transfers Alternative include conservation, groundwater substitution, and reservoir release transfers.

No Groundwater Substitution Transfers Alternative

This alternative would consider a subset of the methods that met the purpose and need and were carried forward through the screening process. Methods in the No Groundwater Substitution Transfers Alternative include conservation, cropland idling, crop shifting, and reservoir release transfers.

Other Alternatives

Public and agency input during the scoping process for the EIS/EIR may identify other alternatives for consideration. These will be evaluated in comparison to the preliminary range of alternatives identified above. In addition, in accordance with the requirements of both NEPA and CEQA, the EIS/EIR will evaluate a No Action/No Project Alternative. A No Action/No Project Alternative will be defined to characterize current and reasonably foreseeable future environmental conditions, given the continued operation of water resource projects or facilities, such as the SWP and CVP, in combination with planned water resource projects or facilities that are approved or are authorized but not yet implemented.

Summary of Potential Impacts

The EIS/EIR will describe the reasonably foreseeable environmental effects of the proposed action and the alternatives, and the significance of those effects. The EIS/EIR will also evaluate the cumulative impacts of the project when considered in conjunction with other past, present, and reasonably foreseeable future projects.

The EIS/EIR will include a detailed analysis and will focus on potential environmental impacts, including:

• Surface Water Supply: Transfers could change flows in surface water bodies and the annual supply of water available to buyers.

• Water Quality: Transfers could impact the level of sediment, organic carbon, and contaminants in water bodies. Changes in Delta inflow and outflow, reservoir storage, and river flows from transfers could impact water quality.

• Groundwater: Transfers could impact groundwater levels, land subsidence, and groundwater quality from groundwater substitution pumping.

• Geology and Soils: Transfers could increase soil loss and erosion from land idling. Changes in streamflow from transfers could also increase erosion.

• Air Quality: Transfers could impact fugitive dust emission from agricultural land use changes and impact emissions of air pollutants from groundwater substitution pumping.

• Greenhouse Gas Emissions: Transfers could impact greenhouse gas emissions from agricultural land use changes and groundwater substitution pumping.

• Fisheries: Transfers could alter flows, hydrologic conditions, and water levels in rivers and creeks, the Delta, and reservoirs supporting fisheries resources.

• Terrestrial Resources: Transfers could alter habitat availability and suitability, including seasonally flooded agriculture fields and associated irrigation waterways. Such habitat alterations could affect terrestrial wildlife resources such as the Federally threatened Giant Garter Snake (Thamnophis gigas).

• Agricultural Land Use: Transfers could impact the amount of land categorized as Prime Farmland, Farmland of Statewide or Local Importance, or Unique Farmland under the Federal Farmland Protection Policy Act or the Farmland Mapping and Monitoring Program or convert agricultural lands under the Williamson Act and other land resource programs to an irreversible or incompatible use.

• Cultural and Tribal Resources: Transfers could impact cultural or tribal resources by impacting fisheries, river flows or reservoir levels.

• Visual Resources: Transfers could degrade the existing landscape character or scenic attractiveness of visual resources in the project area.

• Recreation: Transfers could alter river flows and reservoir water levels impacting water-based recreation opportunities.

• Utilities and Power: Transfers could change the power generated by reservoir and facilities.

• Flood Control: Transfers could change storage levels in reservoirs and river flows, potentially affecting flood control capacity.

These issue areas will be discussed in the EIS/EIR, and reasonable mitigation measures will be recommended to avoid, minimize, or compensate for adverse effects caused by the proposed action or alternatives.

Statutory Authority and Anticipated Permits

NEPA [42 U.S.C. 4321 et seq.] requires that Federal agencies conduct an environmental analysis of their proposed actions to determine if the actions may significantly affect the human environment. The EIS/EIR will analyze the environmental effects that may result from the implementation of the proposed action and alternatives. In addition to NEPA and CEQA, various other Federal, State, and local authorizations may be required for the Proposed Action. Applicable Federal laws include, but are not limited to, Endangered Species Act, Magnuson‐Stevens Fishery Conservation and Management Act, National Historic Preservation Act, and Clean Water Act.

Schedule for the Decision-Making Process

Reclamation and SLDMWA will review and consider comments received during scoping and will prepare a scoping report. After the Draft EIS/EIR is completed, anticipated in 2025, Reclamation will publish a notice of availability (NOA) and request public comments on the Draft EIS/EIR. After the public comment period ends, Reclamation will then develop the Final EIS and anticipates making the Final EIS/EIR available to the public in 2026. Reclamation may issue a Record of Decision (ROD) no sooner than 30 days after the Final EIS/EIR is released.

Public Disclosure

Before including your name, address, telephone number, email address, or other personal identifying information in your comment, you should be aware that your entire comment—including your personal identifying information—may be made publicly available at any time. While you can ask us in your comment to withhold your personal identifying information from public review, we cannot guarantee that we will be able to do so.

How to Request Reasonable Accommodation

If special assistance or interpretation is required to participate in the public scoping meeting, please contact Nicole Johnson (contact information provided above) as far in advance as possible, and no less than 72 hours in advance, to enable Reclamation to secure the needed services. If a request cannot be honored, the requestor will be notified. Information regarding this proposed action is available in alternative formats upon request.

Adam Nickels,
Acting Regional Director, California Great Basin Region.

[FR Doc. 2025-16833 Filed 9-2-25; 8:45 am]

BILLING CODE 4332-90-P